DEPARTMENT OF DEFENSE

Office of the Secretary

Strategic Environmental Research and Development Program (SERDP), Scientific Advisory Board

AGENCY: Office of the Secretary, Department of Defense.

ACTION: Notice.

SUMMARY: This Notice is published in accordance with Section 10(a)(2) of the Federal Advisory Committee Act (Pub. L. 92-463). The topic of the meeting on September 13, 2011 is to review new start research and development projects related to the Environmental Restoration and Weapons System and Platforms program areas. These projects are requesting Strategic Environmental Research and Development Program funds in excess of $1M. This meeting is open to the public. Any interested person may attend, appear before, or file statements with the Scientific Advisory Board at the time and in the manner permitted by the Board.

DATES: Tuesday, September 13, 2011 from 9 a.m. to 5 p.m.

ADDRESSES: SERDP Office Conference Center, 901 North Stuart Street, Suite 804, Arlington, VA 22203.

FOR FURTHER INFORMATION CONTACT: Mr. Jonathan Bunger, SERDP Office, 901 North Stuart Street, Suite 303, Arlington, VA or by telephone at (703) 696-2126.

Dated: July 26, 2011.
Aaron Siegel,
Alternate OSD Federal Register Liaison Officer, Department of Defense.

[FR Doc. 2011-19249 Filed 7-28-11; 8:45 am]

BILLING CODE 5001-06-P